SMALL BUSINESS ADMINISTRATION

[Disaster Declarations of Economic Injury for the Coronavirus (COVID-19)]

Amendment to Administrative Declarations of Economic Injury Disasters for the Entire United States and U.S. Territories

AGENCY: U.S. Small Business Administration.

ACTION: Amendment 1.

SUMMARY: This is an amendment to the Economic Injury Disaster Loan (EIDL) declarations issued for each State and Territory of the U.S.

Incident: Coronavirus (COVID-19).

Incident Period: 01/31/2020 and continuing.

DATES: Issued 12/30/2020.

Economic Injury (EIDL) Loan Application Deadline Date: 12/31/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW, Suite 6050, Washington, DC 20416, (202) 205-6734.

SUPPLEMENTARY INFORMATION: The notice of the Economic Injury declarations for each State and Territory of the U.S., dated between 03/16/2020 to 03/21/2020, is hereby amended to extend the deadline date for filing applications for economic injury as a result of this disaster to 12/31/2021. For additional information, please visit SBA.gov/disaster. For questions, please contact the SBA disaster assistance customer service center at 1-800-659-2955 (TTY: 1-800-877-8339) or email disastercustomerservice@sba.gov.

All other information in the original declaration remains unchanged.

(Catalog of Federal Domestic Assistance Number 59008)

Jovita Carranza,
Administrator.

[FR Doc. 2021-00171 Filed 1-7-21; 8:45 am]

BILLING CODE 8026-03-P